DEPARTMENT OF THE TREASURY

Submission for OMB Review; Comment Request

July 31, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 6, 2002 to be assured of consideration.

Internal Revenue Service (IRS)

OMB Number: 1545-1790.

Regulation Project Number: REG-122564-02 NPRM and Temporary.

Type of Review: Extension.

Title: Carryback of Consolidated Net Operating Losses to Separate Return Years.

Description: Regulations 1.1502-21(b)(3)(ii)(C) provides taxpayers with an election to waive carryback years for certain consolidated net operating losses. To make the election, a taxpayer must attach to its return a statement prescribed by the regulation. The data will be used by Revenue Agents to ensure that taxpayers are preparing their returns in accordance with their elections. Respondents will be consolidated groups (generally not small taxpayers).

Respondents: Business or other for-profit.

Estimated Number of Respondents: 4,000.

Estimated Burden Hours Per Respondent: 15 minutes.

Frequency of Response: Annually.

Estimated Total Reporting Burden: 1,000 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Mary A. Able,
Departmental Reports Management Officer.

[FR Doc. 02-19944 Filed 8-6-02; 8:45 am]

BILLING CODE 4830-01-P